DEPARTMENT OF THE INTERIOR

National Park Service

Notice of Inventory Completion: Peabody Museum of Archaeology and Ethnology, Harvard University, Cambridge, MA

AGENCY: National Park Service, Interior.

ACTION: Notice.

Notice is here given in accordance with the Native American Graves Protection and Repatriation Act (NAGPRA), 25 U.S.C. 3003, of the completion of an inventory of an associated funerary object in the possession of the Peabody Museum of Archaeology and Ethnology, Harvard University, Cambridge, MA. The associated funerary object was removed from southeast Alaska.

This notice is published as part of the National Park Service's administrative responsibilities under NAGPRA, 25 U.S.C. 3003 (d)(3). The determinations in this notice are the sole responsibility of the museum, institution, or Federal agency that has control of the Native American associated funerary objects. The National Park Service is not responsible for the determinations in this notice.

A detailed assessment of the associated funerary object was made by Peabody Museum of Archaeology and Ethnology professional staff in consultation with representatives of Central Council Tlingit & Haida Indian Tribes, Kootznoowoo Inc., Sealaska Corporation, Sitka Tribe of Alaska, and Yakutat Tlingit Tribe.

On an unknown date before July 1868, one associated funerary object (69-30-10/2182) was recovered from an unknown area in southeast Alaska. It was purchased by the Peabody Museum from Edward G. Fast in 1869. The associated funerary object is a carved wooden box used to contain cremated human remains.

Edward Fast's catalogue describes this item as a box “used for receiving the ashes of the dead.” The Peabody Museum is not in possession of the human remains. The totality of the evidence indicates that this item came from Tlingit territory in the area of southeast Alaska. Edward Fast wrote that he collected all of the items listed in his catalogue from “that portion of the [Alaskan] territory south of Mount St. Elias” while he was stationed in Sitka, AK, between October 1867 and July 1868. However, additional historical sources indicate that a portion of Fast's collection came from the Russian American Company's museum and was collected by the Russian scholar I.G. Voznesenskii.

Museum documentation, combined with other sources, indicates that this item was likely recovered from a grave context. This item most likely dates to the Historic period, specifically to the 19th Century. Anthropological and historic information indicate that the area south of Mount St. Elias in the state of Alaska is within the traditional and historic territory of the Tlingit people. Present-day Tlingit people are represented by Sealaska Corporation, a Native corporation representing Tlingit, Haida, and Tsimshian peoples within the southeastern part of Alaska.

Officials of the Peabody Museum of Archaeology and Ethnology have determined that, pursuant to 25 U.S.C. 3001 (3)(A), the one object described above is reasonably believed to have been exclusively made for burial purposes or to contain human remains. Officials of the Peabody Museum of Archaeology and Ethnology also have determined that, pursuant to 25 U.S.C. 3001 (2), there is a relationship of shared group identity that can be reasonably traced between the associated funerary object and the Tlingit, represented by Sealaska Corporation.

Representatives of any other Indian tribe that believes itself to be culturally affiliated with this associated funerary object should contact Patricia Capone, Repatriation Coordinator, Peabody Museum of Archaeology and Ethnology, Cambridge, MA 02138, telephone (617) 496-3702, before November 27, 2009. Repatriation of the associated funerary object to Sealaska Corporation may proceed after that date if no additional claimants come forward.

The Peabody Museum of Archaeology and Ethnology is responsible for notifying the Central Council Tlingit and Haida Indian Tribes, Kootznoowoo Inc., Sealaska Corporation, Sitka Tribe of Alaska, and Yakutat Tlingit Tribe that this notice has been published.

Dated: October 8, 2009
Sherry Hutt,
Manager, National NAGPRA Program.

[FR Doc. E9-25968 Filed 10-27-09; 8:45 am]

BILLING CODE 4312-50-S